DEPARTMENT OF COMMERCE

International Trade Administration

[A-570-888]

Notice of Amended Final Results of Antidumping Duty Administrative Review: Floor-Standing, Metal-Top Ironing Tables and Certain Parts Thereof from the People's Republic of China

AGENCY: Import Administration, International Trade Administration, Department of Commerce.

SUMMARY: On March 21, 2007, the U.S. Department of Commerce (the Department) published the final results of the administrative review of the antidumping duty order on floor-standing, metal-top ironing tables and certain parts thereof (ironing tables) from the People's Republic of China (PRC), covering the period of review (POR) February 3, 2004, through July 31, 2005. See Floor-Standing, Metal-Top Ironing Tables and Certain Parts Thereof from the People's Republic of China: Final Results and Final Rescission, In Part, of Antidumping Duty Administrative Review, 72 FR 13239 (March 21, 2007) (Final Results). We are amending our Final Results to correct ministerial errors made in the calculations of the dumping margins for Since Hardware (Guangzhou) Co., Ltd. (Since Hardware), pursuant to section 751(h) of the Tariff Act of 1930, as amended (the Act).

EFFECTIVE DATE: April 19, 2007.

FOR FURTHER INFORMATION CONTACT: Kristina Horgan or Bobby Wong, AD/CVD Operations, Office 9, Import Administration, International Trade Administration, U.S. Department of Commerce, 14th Street and Constitution Avenue, NW., Washington, DC 20230; telephone: (202) 482-8173 or (202) 482-0409, respectively.

SUPPLEMENTARY INFORMATION:

Background

On March 21, 2007, the Department published the Final Results and corresponding issues and decision memorandum. See Memorandum to David M. Spooner, Assistant Secretary for Import Administration, from Stephen J. Claeys, Deputy Assistant Secretary for Import Administration, titled Issues and Decision Memorandum for the Final Results in the First Administrative Review of Floor-standing, Metal-top Ironing Tables and Certain Parts Thereof from the People's Republic of China (March 12, 2007).

On March 27, 2007, Since Hardware filed a timely allegation that the Department made certain ministerial errors in the Final Results. On March 27, 2007, petitioner Home Products International, Inc. filed rebuttal comments to the ministerial error allegations submitted by Since Hardware. No other interested party submitted ministerial error allegations or comments.

Scope of Order

For purposes of this review, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this review.

Furthermore, this scope specifically covers imports of ironing tables, assembled or unassembled, complete or incomplete, and certain parts thereof. For purposes of this review, the term “unassembled” ironing table means a product requiring the attachment of the leg assembly to the top or the attachment of an included feature such as an iron rest or linen rack. The term “complete” ironing table means product sold as a ready-to-use ensemble consisting of the metal-top table and a pad and cover, with or without additional features, e.g. iron rest or linen rack. The term “incomplete” ironing table means product shipped or sold as a “bare board” - i.e., a metal-top table only, without the pad and cover - with or without additional features, e.g. iron rest or linen rack. The major parts or components of ironing tables that are intended to be covered by this order under the term “certain parts thereof” consist of the metal top component (with or without assembled supports and slides) and/or the leg components, whether or not attached together as a leg assembly. The scope covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables were previously classified under Harmonized Tariff Schedule of the United States (HTSUS) subheading 9403.20.0010. Effective July 1, 2003, the subject ironing tables are classified under new HTSUS subheading 9403.20.0011. The subject metal top and leg components are classified under HTSUS subheading 9403.90.8040. Although the HTSUS subheadings are provided for convenience and for Customs and Border Protection (CBP) purposes, the Department's written description of the scope remains dispositive.

Ministerial Errors

A ministerial error is defined in section 751(h) of the Tariff Act of 1930, as amended (the Act), and further clarified in 19 CFR 351.224(f) as “an error in addition, subtraction, or other arithmetic function, clerical error resulting from inaccurate copying, duplication, or the like, and any other similar type of unintentional error which the Secretary considers ministerial.”

After analyzing all interested parties' comments, we have determined, in accordance with 19 CFR 351.224(e), that while some alleged errors were not ministerial, by definition, (i.e., surrogate financial ratio calculations and not providing an opportunity for comment on a certain issue), one ministerial error existed with respect to the calculation of the surrogate value for cold-rolled steel that was used in the Since Hardware margin calculation for the Final Results. For a detailed discussion of these ministerial error allegations, as well as the Department's analysis, see Memorandum to James C. Doyle, Office Director, AD/CVD Operations, Office 9, through Christopher D. Riker, Program Manager, AD/CVD Operations, Office 9, from Kristina Horgan and Bobby Wong, International Trade Analysts, AD/CVD Operations, Office 9, titled 2004/2005 Antidumping Duty Administrative Review of Final Results of Antidumping Administrative Review of Floor-standing, Metal-top Ironing Tables and Certain Parts Thereof from the People's Republic of China: Analysis of Ministerial Error Allegations (April 12, 2007) (Ministerial Error Allegation Memorandum). The Ministerial Error Allegation Memorandum is on file in the Central Records Unit, room B-099 of the Department of Commerce.

Therefore, in accordance with section 751(h) of the Act and 19 CFR 351.224(e), we are amending the Final Results of the administrative review of ironing tables from the PRC. The revised weighted-average dumping margins are listed below. For company-specific calculations, see Memorandum to The File, through Christopher D. Riker, Program Manager, AD/CVD Operations, Office 9, from Bobby Wong, International Trade Analyst, AD/CVD Operations, Office 9, titled Administrative Review of Floor standing, Metal-top Ironing Tables and Certain Parts Thereof (Ironing Tables) from the People's Republic of China (PRC): Since Hardware (Guangzhou) Co., Ltd. (Since Hardware) Amended Final Analysis Memorandum. The revised final weighted-average dumping margin for Since Hardware is:

Exporter | Margin (percent)
Since Hardware (Guangzhou) Co., Ltd. | 0.45%% (de minimis)

The Department shall determine, and CBP shall assess, antidumping duties on all appropriate entries based on the amended final results. For details on the assessment of antidumping duties on all appropriate entries, see Final Results.

These amended final results are published in accordance with sections 751(h) and 777(I)(1) of the Act.

Dated: April 12, 2007.
David M. Spooner,
Assistant Secretary for Import Administration.

[FR Doc. E7-7449 Filed 4-18-07; 8:45 am]

BILLING CODE 3510-DS-S